DEPARTMENT OF HEALTH AND HUMAN SERVICES

Administration for Children and Families

Submission for OMB Review; Comment Request

Title: Parents and Children Together.

OMB No.: 0970-0403.

Description: The Administration for Children and Families (ACF), U.S. Department of Health and Human Services is proposing an information collection activity as part of an evaluation of healthy marriage and responsible fatherhood grant programs. The evaluation study title is Parents and Children Together (PACT).

A 60-Day Federal Register Notice was published for this study on December 20, 2011. This Notice described all components of the study and, therefore, we request to waive additional 60-Day Federal Register Notices. This 30-Day Federal Register Notice covers (a) instruments for the impact study baseline survey (including an introductory script and the baseline survey itself), and (b) site Management Information Systems (MIS).

This information collection request is specific to Responsible Fatherhood programs that may be evaluated (requests specific to Healthy Marriage programs will be separate). The baseline survey will collect data related to such domains as father involvement, coparenting, parenting, marriage and romantic relationships, and employment. The information from the baseline survey will be used by ACF for, among other things, describing the populations served and determining the comparability of program and control groups. Information on participant entry, participation, and exit from the program will be entered into the MIS system.

Respondents: Baseline information will be collected from all fathers prior to random assignment; the introductory script will be read by program staff to fathers applying to the program. Program staff will record information on the services received by study participants in the study Management Information System (MIS).

Annual Burden Estimates

The following table provides the combined burden estimates for the previously-approved field data collection instrument, and the current request. Burden for all instruments is annualized over three years.

Activity/respondent | Annual number of respondents | Number of responses per respondent | Average burden per response (minutes) | Total annual burden hours
Collection of Field Data (Approved April 20, 2012)
Selecting Study Grantees Discussions/grantee and partner organization staff | 50 | 1 | 60 | 50
Introductory Script and Baseline Survey (Currently Requested)
Introductory Script:
(1) Grantee staff | 30 | 70.2 | 10 | 351
(2) Program applicants | 2,105 | 1 | 10 | 351
Baseline Survey:
(1) Study participants | 2,000 | 1 | 30 | 1.000
Study MIS (Currently Requested)
Study MIS:
(1) Grantee staff | 30 | 2,517 | 2 | 2,517

Estimated Total Annual Burden Hours: 4,269.

Additional Information

Copies of the proposed collection may be obtained by writing to the Administration for Children and Families, Office of Planning, Research, and Evaluation, 370 L'Enfant Promenade SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRASUBMISSION@OMB.E0P.GOV, Attn: Desk Officer for the Administration for Children and Families.

Steven M. Hanmer,
Reports Clearance, Officer.

[FR Doc. 2012-15440 Filed 6-26-12; 8:45 am]

BILLING CODE 4184-37-M